NATIONAL CREDIT UNION ADMINISTRATION

Sunshine Act Meeting

TIME AND DATE:

10:00 a.m., Thursday, January 14, 2021

Recess: 12:15 p.m.

12:30 p.m., Thursday, January 14, 2021

PLACE: Due to the COVID-19 Pandemic, the meeting will be open to the public via live webcast only. Visit the agency's homepage (www.ncua.gov.) and access the provided webcast link.

STATUS: Parts of this meeting will be open to the public. The rest of the meeting will be closed to the public.

MATTERS TO BE CONSIDERED:

PORTIONS OPEN TO THE PUBLIC:

1. Board Briefing, ACCESS Initiative.

2. NCUA Rules and Regulations, Credit Union Service Organizations.

3. Board Briefing, Statutory Inflation Adjustment of Civil Monetary Penalties.

4. NCUA Rules and Regulations, Corporate Credit Unions.

5. NCUA Rules and Regulations, CAMELS Rating System.

6. NCUA Rules and Regulations, Risk Based Net Worth, Complex Threshold.

7. NCUA's 2021 Annual Performance Plan.

8. Board Briefing, Consolidated Appropriations Act, 2021.

9. NCUA Rules and Regulations, Simplification of Risk Based Capital Requirements.

PORTIONS CLOSED TO THE PUBLIC:

1. Supervisory Action. Closed pursuant to Exemptions (7), (8) and (9)(ii).

2. Supervisory Action. Closed pursuant to Exemptions (5), (7), (8), (9)(i)(B) and (9)(ii).

3. Delegation of Authority. Closed pursuant to Exemption (2).

4. Personnel Action. Closed pursuant to Exemptions (2) and (6).

5. Personnel Action. Closed pursuant to Exemptions (2) and (6).

6. Board Briefing. Closed pursuant to Exemption (8).

CONTACT PERSON FOR MORE INFORMATION: Melane Conyers-Ausbrooks, Secretary of the Board, Telephone: 703-518-6304.

Melane Conyers-Ausbrooks,
Secretary of the Board.

[FR Doc. 2021-00473 Filed 1-8-21; 8:45 am]

BILLING CODE 7535-01-P